DEPARTMENT OF TRANSPORTATION

National Highway Traffic Safety Administration

Denial of Motor Vehicle Defect Petition

AGENCY: National Highway Traffic Safety Administration (NHTSA), Department of Transportation.

ACTION: Denial of petition for a defect investigation.

SUMMARY: This notice sets forth the reasons for the denial of a petition submitted pursuant to 49 U.S.C. 30162 by Mr. Richard H. McSwain of McSwain Engineering Inc. to NHTSA's Office of Defects Investigation (ODI), received June 29, 2007, requesting that the agency commence a proceeding to determine the existence of a defect related to motor vehicle safety with respect to the manual seatback recliner mechanism in model year 1989-1992 Ford Probe vehicles (subject vehicles). After a review of the petition and other information, NHTSA has concluded that further expenditure of the agency's investigative resources on the issues raised by the petition does not appear to be warranted. The agency accordingly has denied the petition. The petition is hereinafter identified as DP07-001.

FOR FURTHER INFORMATION CONTACT: Mr. Steve Chan, Safety Defects Engineer, Defects Assessment Division, Office of Defects Investigation, NHTSA, 1200 New Jersey Avenue, SE., Washington, DC 20590. Telephone: (202) 366-8537.

SUPPLEMENTARY INFORMATION: On June 29, 2007, NHTSA received a petition from Mr. Richard H. McSwain of McSwain Engineering Inc., requesting that the agency investigate the failure of the seatback recliner mechanisms in the subject vehicles. The petition is based on an examination of a passenger side front seat recliner mechanism from a subject vehicle involved in a multi-vehicle collision, of an exemplar seat, as well as mechanical testing of a seat from a subject vehicle. The petitioner identified a failure mode involving bypass of the seatback stop pin (inside the recliner mechanism) during forward movement of the seatback, such as when entering and exiting the rear seat. The petition stated that stop pin bypass allows the recliner mechanism sector gear to over-travel with respect to the pawl. Return of the seatback to the upright position may then bend the first tooth of the pawl, resulting in a false or partial engagement of the sector and pawl teeth. This false engagement condition is transmitted to the opposing recliner mechanism via a mechanical communication cable. According to the petition, the ultimate result is the inability of the recliner mechanism to support the seatback during a collision event. The petitioner concluded that the stop pin bypass that initiated the failure mode is a result of inadequate height of the pin and the resulting inadequate contact between the pin and seatback stop.

The Federal Motor Vehicle Safety Standard (FMVSS) No. 207 “Seating Systems,” specifies that seats in passenger cars, multipurpose passenger vehicles, trucks, and buses must meet certain static force test requirements. However, for seats that hinge on folding seatbacks, the restraining device, once engaged, shall not release when a force equal to twenty times the weight of the seatback is applied through the center of gravity for the seat in the direction the seat is facing. It is not uncommon to see the seatbacks of new vehicles moved from their initial positions after a FMVSS simulated vehicular collision.

The identified failure mode may be the result of progressive wear and tear of the seatback stop pin, the seatback stop, and other seat components in vehicles that are, on average, 17 years old. Available data do not suggest that this has occurred with a notable frequency. ODI reviewed its consumer complaint data received over the last nineteen years and found no complaints of seatback collapse (with or without a vehicle collision) in the subject vehicles.

In view of the foregoing, and considering the advanced age of the subject vehicles, it is unlikely that NHTSA would issue an order for the notification and remedy of the alleged defect as defined by the petitioner at the conclusion of the investigation requested in the petition. The statutory requirement that the manufacturer provide a free remedy does not apply if the vehicle was bought by the first purchaser more than 10 calendar years before an order is issued. Therefore, in view of the need to allocate and prioritize NHTSA's limited resources to best accomplish the agency's safety mission, the petition is denied.

Authority: 49 U.S.C. 30162(d); delegations of authority at CFR 1.50 and 501.8.

Issued on: December 4, 2007.
Daniel C. Smith,
Associate Administrator for Enforcement.

[FR Doc. E7-23853 Filed 12-7-07; 8:45 am]

BILLING CODE 4910-59-P